FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011223-041.

Title: Transpacific Stabilization Agreement.

Parties: American President Lines, Ltd.; APL Co. PTE Ltd.; CMA-CGM S.A.; COSCO Container Lines Co., Ltd.; Evergreen Line Joint Service Agreement; Hanjin Shipping Co., Ltd.; Hapag-Lloyd AG; Hyundai Merchant Marine Co., Ltd.; Kawasaki Kisen Kaisha, Ltd.; Mediterranean Shipping Co.; Mitsui O.S.K. Lines, Ltd.; Nippon Yusen Kaisha; Orient Overseas Container Line Limited; and Yangming Marine Transport Corp., and Zim Integrated Shipping Services, Ltd.

Filing Party: David F. Smith, Esq.; Sher & Blackwell LLP; 1850 M Street, NW.; Suite 900; Washington, DC 20036.

Synopsis: The amendment would add China Shipping Container Lines (Hong Kong) Co. Ltd., and China Shipping Container Lines Co. Ltd., operating as a single carrier, as a party to the agreement.

Agreement No.: 011284-064.

Title: Ocean Carrier Equipment Management Association Agreement.

Parties: APL Co. Pte. Ltd.; American President Lines, Ltd.; A.P. Moller-Maersk A/S; CMA CGM, S.A.; Atlantic Container Line; Companhia Libra de Navegacao; Compania Libra de Navegacion Uruguay S.A.; Compania Sudamericana de Vapores, S.A.; COSCO Container Lines Company Limited; Crowley Maritime Corporation; Evergreen Line Joint Service Agreement; Hamburg-Süd; Hapag-Lloyd AG; Hapag-Lloyd USA LLC; Hanjin Shipping Co., Ltd.; Hyundai Merchant Marine Co. Ltd.; Kawasaki Kisen Kaisha, Ltd.; Mitsui O.S.K. Lines Ltd.; Nippon Yusen Kaisha Line; Norasia Container Lines Limited; Orient Overseas Container Line Limited; Yang Ming Marine Transport Corp.; and Zim Integrated Shipping Services, Ltd.

Filing Party: Jeffrey F. Lawrence, Esq.; Sher & Blackwell LLP; 1850 M Street, NW.; Suite 900; Washington, DC 20036.

Synopsis: The amendment would authorize the parties to negotiate, agree on, or jointly contract for insurance related to the operation of a chassis pool. The parties request expedited review.

Agreement No.: 011707-006.

Title: Gulf/South America Discussion Agreement.

Parties: Associated Transport Line, LLC; BBC Chartering & Logistic GMBH & Co. KG; Industrial Maritime Carriers (U.S.A.) Inc.; and West Coast Industrial Express, LLC.

Filing Party: Wade S. Hooker, Esq.; 211 Central Park W; New York, NY 10024.

Synopsis: The amendment deletes Brazil from the geographic scope of the agreement.

Agreement No.: 011962-003.

Title: Consolidated Chassis Management Pool Agreement.

Parties: The Ocean Carrier Equipment Management Association and its member lines; the Association's subsidiary Consolidated Chassis Management LLC and its affiliates; China Shipping Container Lines Co., Ltd.; Companhia Libra de Navegacao; Compania Libra de Navegacion Uruguay; Matson Navigation Co.; Mediterranean Shipping Co., S.A. ; Norasia Container Lines Limited; Westwood Shipping Lines; and Zim Integrated Shipping Services Ltd.

Filing Party: Jeffrey F. Lawrence, Esq.; Sher & Blackwell LLP; 1850 M Street, NW.; Suite 900; Washington, DC 20036.

Synopsis: The amendment would authorize the parties to negotiate, agree on, or jointly contract for insurance related to the operation of a chassis pool. The parties request expedited review.

Agreement No.: 012019-000.

Title: APL/CMA CGM Central America/US East Coast Slot Charter Agreement.

Parties: APL Co. Pte Ltd.; American President Lines, Ltd; and CMA CGM S.A.

Filing Party: Eric C. Jeffrey; Goodwin Procter LLP; 901 New York Avenue, N.W.; Washington, DC 20001.

Synopsis: The agreement authorizes APL to charter space to CMA CGM on certain vessels that APL operates in trade between Guatemala, Honduras and East Coast of the United States.

Agreement No.: 012020-000.

Title: CMA CGM/Maruba Central America to Port Everglades Space Charter Agreement.

Parties: CMA CGM, S.A. and Maruba S.A.

Filing Party: Paul M. Keane, Esq.; Cichanowicz, Callan, Keane, Vengrow & Textor, LLP; 61 Broadway Suite 3000; New York, NY 10006.

Synopsis: The agreement authorizes CMA to charter space to Maruba in the trade between U.S. East Cost ports and ports in Central America.

By Order of the Federal Maritime Commission.
Dated: November 30, 2007.
Karen V. Gregory,
Assistant Secretary.

[FR Doc. E7-23583 Filed 12-4-07; 8:45 am]

BILLING CODE 6730-01-P